FEDERAL MARITIME COMMISSION

Ocean Transportation Intermediary License; Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR Part 515.

License no. | Name/Address | Date reissued
020479F | Karon Jones dba Keen Machinery and Export,425 Sandy Lane, Dublin, TX 76446 | February 11, 2012.
021869F | Merco Air & Ocean Cargo, Inc., 6 Fir Way, Cooper City, FL 33026 | February 1, 2012.
022258F | Platinum Moving Services, Inc. 7610-P Rickenbacker Drive, Gaithersburg, MD 20879 | January 04, 2012.

Vern W. Hill,
Director, Bureau of Certification and Licensing.

[FR Doc. 2012-5558 Filed 3-6-12; 8:45 am]

BILLING CODE 6730-01-P